DEPARTMENT OF TRANSPORTATION

Federal Aviation Administration

14 CFR Part 39

[Docket No. FAA-2024-1483; Project Identifier MCAI-2023-01094-T]

RIN 2120-AA64

Airworthiness Directives; Bombardier, Inc., Airplanes

AGENCY: Federal Aviation Administration (FAA), DOT.

ACTION: Notice of proposed rulemaking (NPRM).

SUMMARY: The FAA proposes to supersede Airworthiness Directive (AD) 2021-10-02, which applies to all Bombardier, Inc., Model BD-700-1A10 and BD-700-1A11 airplanes. AD 2021-10-02 requires repetitive general visual inspections of the left- and right-hand elevator torque tube bearings for any sand, dust, or corrosion; repetitive functional tests of the elevator control system; and replacement of the elevator torque tube bearings if necessary. Since the FAA issued AD 2021-10-02, the FAA has determined that a new airworthiness limitation is necessary. This proposed AD would continue to require certain actions in AD 2021-10-02 and require revising the existing maintenance or inspection program, as applicable, to incorporate new airworthiness limitations. The FAA is proposing this AD to address the unsafe condition on these products.

DATES: The FAA must receive comments on this NPRM by July 29, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-1483; or in person at Docket Operations between 9 a.m. and 5 p.m., Monday through Friday, except Federal holidays. The AD docket contains this NPRM, the mandatory continuing airworthiness information (MCAI), any comments received, and other information. The street address for Docket Operations is listed above.

Material Incorporated by Reference:

• For Bombardier material, contact Bombardier Business Aircraft Customer Response Center, 400 Côte-Vertu Road West, Dorval, Québec H4S 1Y9, Canada; telephone 514-855-2999; email ac.yul@aero.bombardier.com; website bombardier.com.

• You may view this material at the FAA, Airworthiness Products Section, Operational Safety Branch, 2200 South 216th St., Des Moines, WA. For information on the availability of this material at the FAA, call 206-231-3195.

FOR FURTHER INFORMATION CONTACT: Gabriel Kim, Aviation Safety Engineer, FAA, 1600 Stewart Avenue, Suite 410, Westbury, NY 11590; telephone 516-228-7300; email 9-avs-nyaco-cos@faa.gov.

SUPPLEMENTARY INFORMATION:

Comments Invited

The FAA invites you to send any written relevant data, views, or arguments about this proposal. Send your comments to an address listed under ADDRESSES. Include “Docket No. FAA-2024-1483; Project Identifier MCAI-2023-01094-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Gabriel Kim, Aviation Safety Engineer, FAA, 1600 Stewart Avenue, Suite 410, Westbury, NY 11590; telephone 516-228-7300; email 9-avs-nyaco-cos@faa.gov. Any commentary that the FAA receives that is not specifically designated as CBI will be placed in the public docket for this rulemaking.

Background

The FAA issued AD 2021-10-02, Amendment 39-21535 (86 FR 33088, June 24, 2021) (AD 2021-10-02), for all Bombardier, Inc., Model BD-700-1A10 and BD-700-1A11 airplanes. AD 2021-10-02 was prompted by an MCAI originated by Transport Canada, which is the aviation authority for Canada. Transport Canada issued AD CF-2020-29, dated August 21, 2020 (Transport Canada AD CF-2020-29), to correct an unsafe condition.

AD 2021-10-02 requires repetitive general visual inspections of the left- and right-hand elevator torque tube bearings for any sand, dust, or corrosion; repetitive functional tests of the elevator control system; and replacement of the elevator torque tube bearings if necessary. The FAA issued AD 2021-10-02 to address sand contamination and corrosion of the elevator torque tube bearings, which could lead to binding or seizure of the bearings, and potentially lead to a reduction in or loss of airplane pitch control.

Actions Since AD 2021-10-02 Was Issued

Since the FAA issued AD 2021-10-02, Transport Canada superseded Transport Canada CF-2020-29, and issued Transport Canada AD CF-2020-29R1, dated October 20, 2023 (Transport Canada AD CF-2020-29R1) (referred to after this as the MCAI) to correct an unsafe condition on certain Bombardier, Inc., Model BD-700-1A10 and BD-700-1A11 airplanes. The MCAI states that data collected from the reports mandated by Transport Canada AD CF-2020-29 was used to validate inspection intervals, which have been integrated into new certification maintenance requirement (CMR) tasks. The MCAI also states that Transport Canada AD CF-2020-29R1 mandates the new CMR tasks while giving credit for initial and repetitive inspections already performed, revises the applicability to exclude airplanes delivered with the new CMRs, and removes the reporting requirement.

The FAA is proposing this AD to address sand contamination and corrosion of the elevator torque tube bearings, which could lead to binding or seizure of the bearings, and potentially lead to a reduction in or loss of airplane pitch control.

You may examine the MCAI in the AD docket at regulations.gov under Docket No. FAA-2024-1483.

Related Service Information Under 1 CFR Part 51

The FAA reviewed the following Bombardier temporary revisions:

• Bombardier Global Express, BD-700 Temporary Revision 5-2-53, dated March 31, 2023 (for Model BD-700-1A10 airplanes);

• Bombardier Global Express XRS, BD-700 Temporary Revision 5-2-15, dated March 31, 2023 (for Model BD-700-1A10 airplanes);

• Bombardier Global 6000, GL 6000 Temporary Revision 5-2-20, dated March 31, 2023 (for Model BD-700-1A10 airplanes);

• [Bombardier] Global 6500, GL 6500 Temporary Revision 5-2-3, dated March 31, 2023 (for Model BD-700-1A10 airplanes);

• Bombardier Global 5000, BD-700 Temporary Revision 5-2-21, dated March 31, 2023 (for Model BD-700-1A11 airplanes);

• Bombardier Global 5000 GL 5000 Featuring Global Vision Flight Deck Temporary Revision 5-2-20, dated March 31, 2023 (for Model BD-700-1A11 airplanes); and

• [Bombardier] Global 5500 GL 5500 Temporary Revision, 5-2-3, dated March 31, 2023 (for Model BD-700-1A11 airplanes).

This service information specifies airworthiness limitations for certification maintenance requirements. These documents are distinct since they apply to different airplane models and configurations.

This proposed AD would also require the following service information which the Director of the Federal Register approved for incorporation by reference as of July 29, 2021 (86 FR 33088, June 24, 2021).

• Bombardier Service Bulletin 700-1A11-27-041, Revision 1, dated December 7, 2020.

• Bombardier Service Bulletin 700-27-083, Revision 1, dated December 7, 2020.

• Bombardier Service Bulletin 700-27-5012, Revision 1, dated December 7, 2020.

• Bombardier Service Bulletin 700-27-5503, Revision 1, dated December 7, 2020.

• Bombardier Service Bulletin 700-27-6012, Revision 1, dated December 7, 2020.

• Bombardier Service Bulletin 700-27-6503, Revision 1, dated December 7, 2020.

This service information is reasonably available because the interested parties have access to it through their normal course of business or by the means identified in the ADDRESSES section.

FAA's Determination

This product has been approved by the aviation authority of another country, and is approved for operation in the United States. Pursuant to the FAA's bilateral agreement with this State of Design Authority, it has notified the FAA of the unsafe condition described in the MCAI and service information referenced above. The FAA is issuing this NPRM after determining that the unsafe condition described previously is likely to exist or develop on other products of the same type design.

Proposed Requirements of This NPRM

This proposed AD would retain certain requirements of AD 2021-10-02. This proposed AD would remove airplanes from the applicability, remove the reporting requirement, and provide credit for certain actions. This proposed AD would also require revising the existing maintenance or inspection program, as applicable, to incorporate a new airworthiness limitation.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (l)(1) of this proposed AD.

Costs of Compliance

The FAA estimates that this AD, if adopted as proposed, would affect 461 airplanes of U.S. registry. The FAA estimates the following costs to comply with this proposed AD:

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

The FAA estimates the total cost per operator for the new proposed actions to be $7,650 (90 work-hours × $85 per work-hour).

Estimated Costs for Required Actions
Action | Labor cost | Parts cost | Cost per product | Cost on U.S. operators
Retained actions from AD 2021-10-02 | 22 work-hours × $85 per hour = $1,870 | Up to $4 (for four cotter pins) * | Up to $1,874 | Up to $863,914.
* Parts cost include replacement parts where necessary.

The FAA estimates the following costs to do any necessary on-condition actions that would be required based on the results of any required actions. The FAA has no way of determining the number of aircraft that might need this on-condition action:

Estimated Costs of On-Condition Actions
Labor cost | Parts cost | Cost per product
5 work-hours × $85 per hour = $425 | $271 (for four bearings) | $696

The FAA has included all known costs in its cost estimate. According to the manufacturer, however, some or all of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-10-02, Amendment 39-21535 (86 FR 33088, June 24, 2021); and

b. Adding the following new airworthiness directive:

Bombardier, Inc.: Docket No. FAA-2024-1483; Project Identifier MCAI-2023-01094-T.

(a) Comments Due Date

The FAA must receive comments on this airworthiness directive (AD) by July 29, 2024.

(b) Affected ADs

This AD replaces AD 2021-10-02, Amendment 39-21535 (86 FR 33088, June 24, 2021) (AD 2021-10-02).

(c) Applicability

This AD applies to Bombardier, Inc., Model BD-700-1A10, and -1A11 airplanes, certificated in any category, having serial number 9002 through 60081 inclusive.

(d) Subject

Air Transport Association (ATA) of America Code 05, Time Limits/Maintenance Checks; 55, Flight Controls.

(e) Reason

This AD was prompted by a determination that new airworthiness limitations are necessary. The FAA is issuing this AD to address sand contamination and corrosion of the elevator torque tube bearings, which could lead to binding or seizure of the bearings, and potentially lead to a reduction in or loss of airplane pitch control.

(f) Compliance

Comply with this AD within the compliance times specified, unless already done.

(g) Retained Inspection and Corrective Actions, With Change

This paragraph restates the requirements of paragraph (g) of AD 2021-10-02, with change to Figure 1 to paragraph (g), which identifies the airplane marketing designation instead of the serial number range. Within 36 months from July 29, 2021 (the effective date of AD 2021-10-02) or within 63 months from the date of airplane manufacture, as identified on the identification plate of the airplane, whichever occurs later: Do a general visual inspection of the left- and right-hand elevator torque tube bearings for any sand, dust, or corrosion; perform a functional test of the elevator control system; and do all applicable corrective actions; in accordance with the Accomplishment Instructions of paragraphs 2.B., 2.C., and 2.D. of the applicable service information specified in figure 1 to paragraph (g) of this AD. Applicable corrective actions must be done before further flight. Repeat the general visual inspection and functional test thereafter at intervals not to exceed 63 months. Accomplishing the revision of the existing maintenance or inspection program required by paragraph (i) of this AD terminates the requirements of this paragraph.

Figure 1 to Paragraph (g)—Service Information
For model— | With marketing designation— | Use bombardier service bulletin—
BD-700-1A10 airplanes | Global Express or Global Express XRS | 700-27-083, Revision 1, dated December 7, 2020.
BD-700-1A10 airplanes | Global 6000 | 700-27-6012, Revision 1, dated December 7, 2020.
BD-700-1A10 airplanes | Global 6500 | 700-27-6503, Revision 1, dated December 7, 2020.
BD-700—1A11 airplanes | Global 5000 | 700-1A11-27-041, Revision 1, dated December 7, 2020.
BD-700-1A11 airplanes | Global 5000 Featuring Global Vision Flight Deck (GVFD) | 700-27-5012, Revision 1, dated December 7, 2020.
BD-700-1A11 airplanes | Global 5500 | 700-27-5503, Revision 1, dated December 7, 2020.

(h) No Reporting Requirement

Although the service information identified in Figure 1 to paragraph (g) of this AD specifies to submit certain information to the manufacturer, this AD does not include that requirement.

(i) New Revision of the Existing Maintenance or Inspection Program

Within 30 days after the effective date of this AD, revise the existing maintenance or inspection program, as applicable, to incorporate the information specified in the applicable temporary revision identified in figure 2 to paragraph (i) of this AD. The initial compliance time for doing the tasks is at the time specified in the applicable temporary revision identified in figure 2 to paragraph (i) of this AD, or within 90 days after the effective date of this AD, whichever occurs later. Accomplishing the revision of the existing maintenance or inspection program required by this paragraph terminates the actions required by paragraph (g) of this AD.

Figure 2 to Paragraph (i)—Service Information
For model— | Using TLMC manual— | Use bombardier temporary revision—
BD-700-1A10 airplanes | Bombardier Global Express BD-700 TLMC | 5-2-53, dated March 31, 2023.
BD-700-1A10 airplanes | Bombardier Global Express XRS, BD-700 TLMC | 5-2-15, dated March 31, 2023.
BD-700-1A10 airplanes | Bombardier Global 6000, GL 6000 TLMC | 5-2-20, dated March 31, 2023.
BD-700-1A10 | Global 6500, GL 6500 TLMC | 5-2-3, dated March 31, 2023.
BD-700-1A11 airplanes | Bombardier Global 5000 BD-700 TLMC | 5-2-21, dated March 31, 2023.
BD-700-1A11 airplanes | Bombardier Global 5000 GL 5000 Featuring Global Vision Flight Deck (GVFD) TLMC | 5-2-20, dated March 31, 2023.
BD-700-1A11 airplanes | Global 5500 GL 5500 TLMC | 5-2-3, dated March 31, 2023.

(j) New No Alternative Actions or Intervals

After the existing maintenance or inspection program has been revised as required by paragraph (i) of this AD, no alternative actions (e.g., inspections) or intervals may be used unless the actions and intervals are approved as an alternative method of compliance (AMOC) in accordance with the procedures specified in paragraph (l)(1) of this AD.

(k) Credit for Previous Actions

(1) This paragraph provides credit for actions required by paragraph (g) of this AD, if those actions were performed before July 29, 2021 (the effective date of AD 2021-10-02) using the applicable service information in paragraphs (k)(1)(i) through (vi) of this AD, which are not incorporated by reference in this AD.

(i) Bombardier Service Bulletin 700-1A11-27-041, dated July 23, 2020.

(ii) Bombardier Service Bulletin 700-27-083, dated July 23, 2020.

(iii) Bombardier Service Bulletin 700-27-5012, dated July 23, 2020.

(iv) Bombardier Service Bulletin 700-27-5503, dated July 23, 2020.

(v) Bombardier Service Bulletin 700-27-6012, dated July 23, 2020.

(vi) Bombardier Service Bulletin 700-27-6503, dated July 23, 2020.

(2) This paragraph provides credit for the initial and repetitive inspection actions required by paragraph (i) of this AD if those actions were performed before the effective date of this AD using the applicable service information identified in figure 1 to paragraph (g) of this AD, which were incorporated by reference in AD 2021-10-02, Amendment 39-21535 (86 FR 33088, June 24, 2021).

(l) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (m)(1) of this AD. Information may be emailed to: 9-AVS-NYACO-COS@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(m) Additional Information

(1) For more information about this AD, contact Gabriel Kim, Aviation Safety Engineer, FAA, 1600 Stewart Avenue, Suite 410, Westbury, NY 11590; telephone 516-228-7300; email 9-avs-nyaco-cos@faa.gov.

(2) Service information identified in this AD that is not incorporated by reference is available at the address specified in paragraph (n)(5) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on [DATE 35 DAYS AFTER PUBLICATION OF THE FINAL RULE].

(i) Bombardier Global Express, BD-700 Temporary Revision 5-2-53, dated March 31, 2023 (for Model BD-700-1A10 airplanes).

(ii) Bombardier Global Express XRS, BD-700 Temporary Revision 5-2-15, dated March 31, 2023 (for Model BD-700-1A10 airplanes).

(iii) Bombardier Global 6000, GL 6000 Temporary Revision 5-2-20, dated March 31, 2023 (for Model BD-700-1A10 airplanes).

(iv) [Bombardier] Global 6500, GL 6500 Temporary Revision 5-2-3, dated March 31, 2023 (for Model BD-700-1A10 airplanes).

(v) Bombardier Global 5000, BD-700 Temporary Revision 5-2-21, dated March 31, 2023 (for Model BD-700-1A11 airplanes).

(vi) Bombardier Global 5000 GL 5000 Featuring Global Vision Flight Deck Temporary Revision 5-2-20, dated March 31, 2023 (for Model BD-700-1A11 airplanes).

(vii) [Bombardier] Global 5500 GL 5500 Temporary Revision, 5-2-3, dated March 31, 2023 (for Model BD-700-1A11 airplanes).

(4) The following service information was approved for IBR on July 29, 2021 (86 FR 33088, June 24, 2021).

(i) Bombardier Service Bulletin 700-1A11-27-041, Revision 1, dated December 7, 2020.

(ii) Bombardier Service Bulletin 700-27-083, Revision 1, dated December 7, 2020.

(iii) Bombardier Service Bulletin 700-27-5012, Revision 1, dated December 7, 2020.

(iv) Bombardier Service Bulletin 700-27-5503, Revision 1, dated December 7, 2020.

(v) Bombardier Service Bulletin 700-27-6012, Revision 1, dated December 7, 2020.

(vi) Bombardier Service Bulletin 700-27-6503, Revision 1, dated December 7, 2020.

(5) For Bombardier service information, contact Bombardier Business Aircraft Customer Response Center, 400 Côte-Vertu Road West, Dorval, Québec H4S 1Y9, Canada; telephone 514-855-2999; email ac.yul@aero.bombardier.com; website bombardier.com.

(6) You may view this service information at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations, or email fr.inspection@nara.gov.

Issued on June 5, 2024.
Suzanne Masterson,
Deputy Director, Integrated Certificate Management Division, Aircraft Certification Service.

[FR Doc. 2024-12745 Filed 6-11-24; 8:45 am]

BILLING CODE 4910-13-P